COMMITTEE FOR PURCHASE FROM PEOPLE WHO ARE BLIND OR SEVERELY DISABLED

Procurement List Additions and Deletions

AGENCY: Committee for Purchase From People Who Are Blind or Severely Disabled.

ACTION: Additions to and deletions from the procurement list.

SUMMARY: This action adds products and services to the Procurement List that will be furnished by nonprofit agencies employing persons who are blind or have other severe disabilities, and deletes products from the Procurement List previously furnished by such agencies.

DATES: Effective Date: 11/24/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/30/2014 (79 FR 31095-31096); 6/20/2014 (79 FR 35320); 8/22/2014 (79 FR 49756); 9/12/2014 (79 FR 54683) and 9/19/2014 (79 FR 56345), the Committee for Purchase From People Who Are Blind or Severely Disabled published notices of proposed additions to the Procurement List.

After consideration of the material presented to it concerning capability of qualified nonprofit agencies to furnish the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 6230-00-NIB-0052—Flashlight, Tactical, Lithium-Ion Rechargeable, Multi-color LEDs

NSN: 6230-00-NIB-0053—Penlight, Tactical-Style, LED, 2 AAA, 5” Long

NSN: 6230-00-NIB-0054—Flashlight, Tactical-Style, LED, 2 AAA, 6” Long

NPA: Central Association for the Blind & Visually Impaired, Utica, NY

Contracting Activity: Defense Logistics Agency Troop Support, Philadelphia, PA

Coverage: B-List for the Broad Government Requirement as aggregated by the Defense Logistics Agency Troop Support, Philadelphia, PA.

NSN: MR 919—Brush, Scrubber Plastic Block

NSN: MR 1078—Broom, Corn Whisk

NPA: Alphapointe, Kansas City, MO

Contracting Activity: Defense Commissary Agency, Fort Lee, VA

Coverage: C-List for the requirements of military commissaries and exchanges as aggregated by the Defense Commissary Agency, Fort Lee, VA.

NSN: 6140-01-545-0940—Battery, Storage, 12V

NPA: Eastern Carolina Vocational Center, Inc., Greenville, NC

Contracting Activity: Defense Logistics Agency Land and Maritime, Columbus, OH

Coverage: C-List for 100% of the requirement of the Department of Defense, as aggregated by the Defense Logistics Agency Land and Maritime, Columbus, OH.

Services

Service Type/Location: Janitorial, Grounds and Refuse Collection Service, U.S. Air Force, Arnold Air Force Base, 100 Kindel Drive, Arnold AFB, TN

NPA: CW Resources, Inc., New Britain, CT

Contracting Activity: Dept of the Air Force, FA9101 AEDC PKP, Procurement Branch, Arnold AFB, TN

Additional Information: The Arnold Engineering Development Complex (AEDC) and U.S. AbilityOne Commission (Commission) have agreed to a mutually beneficial approach to adding the AEDC's requirement for Custodial, Grounds, and Refuse Service to the Commission's Procurement List (PL) while assuring reasonable stability in the AEDC workforce. Due to unique workforce considerations at AEDC, the Commission will issue a Purchase Exception (PE) for the period October 1, 2014 to September 30, 2019; therefore, the PL addition will not be implemented or “active” until October 1, 2019.

During the PE period, the AEDC and Commission have agreed to ensure a plan is developed to transition the custodial, grounds, and refuse collection (Big Three) requirements from the incumbent Facility Support Service (FSS) contractor to the designated NPA—including the process for negotiating a firm-fixed price contract. A key component of the transition plan will be a communications strategy of how the Big Three effort will be transitioned to performance under the AbilityOne Program in accordance with the PL.

As AEDC implements its acquisition strategy to acquire FSS for the PE period, it has agreed to incorporate language into the FSS contract that (1) provides notice that the requirement for custodial, grounds, and refuse service is on the PL, and requirements for these services will be performed by the NPA designated by the Commission no later than October 1, 2019 and (2) encourages the contractor to employ people with disabilities.

Service Type/Locations:

Custodial and Grounds Maintenance Service, GSA, PBS, Region 2, Federico Degetau Federal Building and Clemente Ruiz Nazario US Courthouse, 150 Carlos Chardon Street, Hato Rey, PR

GSA, PBS, Region 2, GSA Center, Insular Road No. 28, Guaynabo, PR

NPA: The Corporate Source, Inc., New York, NY

Contracting Activity: GSA/Public Buildings Service, Hato Rey, PR

Service Type/Location: Janitorial Service, National Oceanic & Atmospheric Administration, National Weather Service Office, 2500 Challenger Drive, Midland, TX

NPA: World Technical Services, Inc., San Antonio, TX

Contracting Activity: Department of Commerce, National Oceanic and Atmospheric Administration, Boulder, CO

Service Type/Location: Custodial Service, US Army, Warrior Transition Battalion, 4-2027 Normandy Drive, Fort Bragg, NC

NPA: The Chimes, Inc., Baltimore, MD

Contracting Activity: Dept of the Army, W074 ENDIST Wilmington, Wilmington, NC

Deletions

On 9/19/2014 (79 FR 56345), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entity to furnish the products to the Government.

3. There are no known regulatory alternatives which would accomplish the objectives of the Javits-Wagner-O'Day Act (41 U.S.C. 8501-8506) in connection with the products deleted from the Procurement List.

End of Certification

Accordingly, the following products are deleted from the Procurement List:

Products

Liner, Flyer's Jacket, Air Force, Green Quilted

NSN: 8415-00-844-9811—Small.

NSN: 8415-00-844-9812—Medium.

NSN: 8415-00-844-9813—Large.

NSN: 8415-00-844-9814—X Large.

NPA: Peckham Vocational Industries, Inc., Lansing, MI.

Contracting Activity: Defense Logistics Agency Troop Support, Philadelphia, PA.

Barry S. Lineback,
Director, Business Operations.

[FR Doc. 2014-25334 Filed 10-23-14; 8:45 am]

BILLING CODE 6353-01-P